AGENCY FOR HEALTHCARE RESEARCH AND QUALITY

Request for Information on the Use of Clinical Algorithms That Have the Potential To Introduce Racial/Ethnic Bias Into Healthcare Delivery; Correction

AGENCY: Agency for Healthcare Research and Quality (AHRQ), HHS.

ACTION: Notice; correction.

SUMMARY: The Agency for Healthcare Research and Quality published a document in the Federal Register of March 5, 2021, concerning request for information on the Use of Clinical Algorithms That Have the Potential To Introduce Racial/Ethnic Bias Into Healthcare Delivery. The document was missing a URL link to the Effective Health Care website.

FOR FURTHER INFORMATION CONTACT: Anjali Jain, 301-427-1630.

SUPPLEMENTARY INFORMATION:

Correction

In the Federal Register of March 5, 2021, in FR Doc. 2021-04509, on page 12948, in the first column, correct the Addresses caption to read:

ADDRESSES: Submissions should follow the Submission Instructions below. We prefer that comments be submitted electronically on the Effective Health Care website at https://effectivehealthcare.ahrq.gov/products/algorithms-bias-healthcare-delivery/request-info. Email submissions may also be sent to: epc@ahrq.gov.

Dated: March 10, 2021.
Marquita Cullom,
Associate Director.

[FR Doc. 2021-05281 Filed 3-12-21; 8:45 am]

BILLING CODE P